DEPARTMENT OF TRANSPORTATION

Federal Aviation Administration

14 CFR Part 39

[Docket No. 2000-CE-09-AD; Amendment 39-12300; AD 2001-13-18]

RIN 2120-AA64

Airworthiness Directives; Raytheon Aircraft Company Beech Models 45 (YT-34), A45 (T-34A, B-45), and D45 (T-34B) Airplanes

AGENCY: Federal Aviation Administration, DOT.

ACTION: Final rule.

SUMMARY: This document supersedes Airworthiness Directive (AD) 99-12-02, which currently requires flight and operating limitations on Raytheon Aircraft Corporation (Raytheon) Beech Models 45 (YT-34), A45 (T-34A, B-45), and D45 (T-34B) airplanes. AD 99-12-02 resulted from a report of an in-flight separation of the right wing on a Raytheon Beech Model A45 (T-34A) airplane. The AD was issued as an interim action until the development of FAA-approved inspection procedures. Raytheon has developed procedures to inspect the wing spar assemblies of the above-referenced airplanes. This AD requires repetitive inspections of the wing spar assembly for cracks with replacement of any wing spar assembly found cracked (unless the spar assembly has a crack indication in the filler strip where the direction of the crack is toward the outside edge of the filler strip). This AD also includes a reporting requirement of the results of the initial inspection and maintains the flight and operating restrictions required by AD 99-12-02 until accomplishment of the initial inspection. The actions specified by this AD are intended to prevent wing spar failure caused by fatigue cracks in the wing spar assemblies and ensure the operational safety of the above-referenced airplanes.

DATES: This AD becomes effective on August 16, 2001.

The Director of the Federal Register approved the incorporation by reference of certain publications listed in the regulations as of August 16, 2001.

ADDRESSES: You may get the service information referenced in this AD from Raytheon Aircraft Company, P.O. Box 85, Wichita, Kansas 67201-0085; telephone: (800) 625-7043 or (316) 676-4556. You may examine this information at FAA, Central Region, Office of the Regional Counsel, Attention: Rules Docket No. 2000-CE-09-AD, 901 Locust, Room 506, Kansas City, Missouri 64106; or at the Office of the Federal Register, 800 North Capitol Street, NW, suite 700, Washington, DC.

FOR FURTHER INFORMATION CONTACT: Paul Nguyen, Aerospace Engineer, FAA, Wichita Aircraft Certification Office, 1801 Airport Road, Mid-Continent Airport, Wichita, Kansas 67209; telephone: (316) 946-4125; facsimile: (316) 946-4407.

SUPPLEMENTARY INFORMATION:

Events Leading to the Issuance of This AD

Has FAA taken any action to this point? In-flight separation of the right wing on a Raytheon Beech Model A45 (T34A) airplane caused FAA to issue AD 99-12-02, Amendment 39-11193 (64 FR 31689, June 14, 1999). This AD requires:

—Incorporating flight and operating limitations that restrict the airplanes to normal category operation and prohibit them from acrobatic and utility category operations;

—Limiting the flight load factor to 0 to 2.5 G; and

—Limiting the maximum airspeed to 175 miles per hour (mph) (152 knots).

AD 99-12-02 was issued as an interim action until the development of FAA-approved inspection procedures.

What has happened since AD 99-12-02 to initiate this action? Raytheon has developed procedures to inspect the wing spar assemblies on Raytheon Beech Models 45 (YT-34), A45 (T-34A, B-45), and D45 (T-34B) airplanes. We have reviewed and approved the technical aspects of these procedures.

To address this issue, FAA issued a notice of proposed rulemaking (NPRM) to supersede AD 99-12-02. This NPRM was published in the Federal Register on May 5, 2000 (65 FR 26149). The NPRM proposed to supersede AD 99-12-02 with a new AD that would require:

—Repetitively inspecting the wing spar assemblies for cracks and replacing any cracked wing spar assembly. A crack indication in the filler strip is allowed if the direction of the crack is toward the outside edge of the filler strip;

—Reporting the results of the initial inspection; and

—Maintaining the flight and operating restrictions that AD 99-12-02 currently requires until accomplishing the initial inspection and possible replacement proposed in this AD.

The flight and operating restrictions that AD 99-12-02 currently requires may be changed after inspection of the wing spar assemblies, and the wing spar assembly either is replaced, is crack free, or only has a crack indication in the filler strip where the direction of the crack is toward the outside edge of the filler strip.

Was the public invited to comment? The FAA encouraged interested persons to participate in the making of this amendment. At the request of several commenters, we issued an NPRM to extend the comment period from July 7, 2000, to October 15, 2000. This document was published in the Federal Register on July 5, 2000 (65 FR 41381). A summary of the comments received on both of these documents follow, along with our responses.

Comment Issue No. 1: Incorporate Alternative Methods of Compliance Into the Final Rule AD Action

What is the commenters’ concern? The FAA received brief summaries of two requests for alternative methods of compliance to the actions in the proposed AD. Several commenters request that we incorporate each of these alternative methods of compliance into the final rule as a compliance option to the AD. A brief description of each alternative method of compliance follows:

—A proposal from the T-34 Technical Committee consists of accomplishing Raytheon SB 57-3329 as a one-time action (as long as no cracks are found) and cold working the boltholes. This would allow the airplanes to be operated at their original operating criteria; and

—A proposal from the T-34 Association consists of complying with parts of Raytheon SB 57-3329 and replacing the front spars with spars from Baron (55 and 58 series) airplanes as terminating action.

What is FAA's response to the concern? The brief summaries of these alternative methods of compliance do not contain sufficient data for us to consider them to provide an acceptable level of safety at the present time. If and when each of these groups submits the appropriate documentation, we will evaluate each proposal to see if it meets the safety intent of the AD. We will then approve any proposal that meets this criteria as an AMOC to the AD.

We are not changing the final rule as a result of these comments.

Comment Issue No. 2: Extend the Comment Period a Second Time

What is the commenters’ concern? Several commenters request an extension to the comment period in order to have more time to finalize alternative methods of compliance.

What is FAA's response to the concern? As discussed previously, FAA extended the comment period to give the public an additional 60 days to respond. The comment period on the extension ended October 15, 2000. We have accepted late comments since that time. We have determined that the safety of the affected airplanes outweighs the necessity for waiting any longer for the completion of alternative methods of compliance, especially in light that it has been over 6 months since the comment period for the extension ended.

We are not changing the final rule as a result of these comments.

Comment Issue No. 3: Allow the Operating Restrictions and Limitations Required by AD 99-12-02 Instead of the Proposed Repetitive Inspections

What is the commenters’ concern? Several commenters request that they be allowed to continue to implement the operating restrictions and limitations that are currently required by AD 99-12-02 rather than be required to accomplish the proposed repetitive inspections. These commenters state that the fastener removal process could cause more damage to the spars and the bolthole eddy current inspection method is subjective. For example, the commenters reference a recent inspection on 5 of the affected airplanes where the eddy current inspection revealed cracks in the front spar. According to the commenter, Raytheon then validated the inspection results and found no cracks in the front spars.

What is FAA's response to the concern? The FAA does not concur that the implementation of the flight and operating restrictions that are currently required by AD 99-12-02 should be an option to accomplishing this AD. We recognize that the fastener removal process could cause damage to the spars. However, the safety implications of allowing an airplane to continue operation with a cracked spar far outweigh the possible damage the fastener removal process could cause.

We established the current flight restrictions that AD 99-12-02 requires as a temporary safety solution until procedures were developed that could determine the condition of the wing spar assemblies of the affected airplanes. Once a crack develops, it can continue to grow through cyclic loads such as maneuvers or gusts, even while the airplane is operating under the current flight and operating restrictions. The only way we can ensure that the affected airplanes do not have cracked wing spar assemblies is through the accomplishment of this inspection and any necessary wing spar assembly replacement.

We also recognize that the Raytheon inspection procedure has the potential of indicating cracks when there are none. Again, the safety implications of allowing an airplane to continue operation with a cracked spar far outweigh the possibility of a false crack indication from the inspection.

We are not changing the final rule as a result of these comments.

Comment Issue No. 4: Return the Affected Airplanes to Their Original Flight Limitations and Limit the AD to Those Airplanes in Air Combat Operations

What is the commenters’ concern? Several commenters state that only those airplanes that are utilized in air combat operations are subject to the fatigue stress that warrants this AD action. The commenters request that FAA exempt those airplanes that do not fly in these operations.

Two other commenters state that the proposed AD is not necessary and recommend that we withdraw AD 99-12-02. These commenters also recommend closely monitoring the operations of air combat since they believe that is the reason for the fatigue damage to the wings of the affected airplanes.

What is FAA's response to the concern? Although we concur that air combat operations reduces the fatigue life of the wing spars of the affected airplane, fatigue problems can also exist for airplanes involved in acrobatic maneuvers, not just air combat operations. Therefore, we have determined that the AD is necessary for all of the airplanes referenced in the NPRM to address the unsafe condition.

We are not changing the final rule as a result of these comments.

Comment Issue No. 5: Change the Inspection Requirements

What is the commenters' concern? Several commenters provided information on the need for both initial and repetitive inspections. Specifically they are as follows:

—One commenter states that a one-time inspection in accordance with the service bulletin is sufficient;

—Four commenters recommend that FAA require only a visual inspection to locate displaced rivets, signs of fatigue, unusual wear, any stress related material, or corrosion. These commenters recommend this inspection to coincide with annual or 100-hour time-in-service (TIS) inspections;

—Six commenters recommend repetitive inspections at intervals of 500 hours TIS or 5 years, whichever occurs first. These commenters recommend more intense inspections for airplanes flown in high stress conditions;

—One commenter recommends repetitive inspections at intervals of 200 hours TIS;

—One commenter recommends no repetitive inspections if the airplane is found crack-free during the initial inspection; and

—Another commenter recommends no repetitive inspections or at the very least repetitive inspections at 1,000-hour TIS intervals. This commenter also suggests more stringent inspection requirements when cracks are found to monitor the crack growth.

What is FAA's response to the concern? We do not concur with any of these requests. Our analysis shows that the 80-hour TIS repetitive inspection interval is necessary to detect cracks at the earliest time before they progress to a point of failure. As discussed previously, we have data that shows fatigue problems for airplanes involved in acrobatic maneuvers as well as air combat operations.

However, we are changing the compliance time of the initial inspection to “within the next 80 hours time-in-service (TIS) after the effective date of this AD or within 12 months after the effective date of this AD, whichever occurs later” instead of “* * * whichever occurs first.” This will give operators of high-usage airplanes 12 months to accomplish the inspection and will give those operators who do not operate 80 hours TIS in a year more time to comply. All operators must maintain the flight and operating restrictions required by AD 99-12-02 until the initial inspection.

Comment Issue No. 6: Either Limit the Affected Airplanes to Utility Category Operation or Exclude Those Airplanes Only Operating in Utility Category

What is the commenters' concern? One commenter requests that, since the Model D45 (T-34B) airplanes are operated in the Utility category and not the Acrobatic category, the AD should not apply to these airplanes. Another commenter recommends that FAA require all affected airplanes to operate according to Utility category operating requirements after accomplishing the initial inspection.

What is FAA's response to the concern? We do not concur with these requests. We can neither exempt the Model D-45 (T-34B) airplanes from the AD nor can we change the operational category of all of the affected airplanes because the wings of the Model A45 (T-34A, B-45) are interchangeable with wings of the Model D45 (T-34B) airplanes. Field experience reveals that the wings of these airplanes have been interchanged. We have no assurance that reliable records exist of wing interchange between these airplanes. Therefore, we have determined that, if we incorporated these requests, an unsafe condition could exist or develop on these airplanes.

We are not changing the final rule as a result of these comments.

Comment Issue No. 7: Correct the Airspeed Indicator Glass Modification Information in the AD

What is the commenters' concern? One commenter requests that FAA change the information from the modification to the red radial line on the airspeed indicator glass from 225 miles per hour (mph) to 252 mph. This commenter also states that the word “edge” should be added after the word “outside” in the fourth bullet in paragraph (e)(4)(iv)(A) of the NPRM.

What is FAA's response to the concern? We concur with these changes. Since these are the type-certificated operating limitations, we are not repeating these in the final rule.

Comment Issue No. 8: Withdraw the NPRM and AD 99-12-02

What is the commenters' concern? Several commenters state that FAA should not only withdraw the NPRM, but should also withdraw AD 99-12-02. The commenters believe that we have no justification for issuing either of these regulatory documents.

What is FAA's response to the concern? We do not concur with these comments. Our decision to issue AD 99-12-02 was based on our analysis and examination of all available data concerning an in-flight separation of the right wing on a Raytheon Beech Model A45 (T-34A) airplane. Our decision to issue the NPRM was based on the development of inspection procedures that when accomplished would allow the airplane to operate in accordance with the original flight and operating restrictions. As discussed earlier in this document, we have determined that the unsafe condition is addressed by:

—Repetitively inspecting the wing spar assembly for cracks and replacing any wing spar assembly found cracked (unless the spar assembly has a crack indication in the filler strip where the direction of the crack is toward the outside edge of the filler strip); and

—Continuing the flight and operating restrictions required by AD 99-12-02 until the initial inspection is accomplished.

We are not making any changes to the final rule based on these comments.

FAA's Determination and Provisions of the AD

What is FAA's Final Determination on this Issue? After careful review of all available information related to the subject presented above, we have determined that air safety and the public interest require the adoption of the rule as proposed except for the change in the initial inspection compliance time and minor editorial corrections. We determined that this compliance time change and the minor editorial corrections:

—Will not change the meaning of the AD; and

Will not add any additional burden upon the public than was already proposed (the compliance time change actually reduces the burden of when the inspection must be accomplished).

Why is the compliance of the initial inspection in hours time-in-service (TIS) and calendar time? We have established the compliance time of the initial inspection at the next 80 hours TIS or 12 months with the prevalent one being that which occurs later. This will give operators of high-usage airplanes 12 months to accomplish the inspection and will give those operators who do not operate 80 hours TIS in a year more time to comply. All operators must maintain the flight and operating restrictions required by AD 99-12-02 until the initial inspection. We have determined that the dual compliance time will ensure that the safety issue is addressed in a timely manner without inadvertently grounding any of the affected airplanes.

How many airplanes does this AD impact? The FAA estimates that this AD affects 476 airplanes in the U.S. registry.

What is the cost impact of the initial inspection on owners/operators of the affected airplanes? We estimate that it will take approximately 241 workhours per airplane to accomplish the initial inspection, at an average labor rate of $60 an hour. Based on these figures, FAA estimates the cost impact of the initial inspection on U.S. operators at $6,882,960, or $14,460 per airplane.

What about the cost of repetitive inspections and replacements? The figures above only take into account the cost of the initial inspection and do not take into account the cost of repetitive inspections or the cost to replace a cracked wing spar assembly. We have no way of determining the number of repetitive inspections each owner/operator will incur over the life of an affected airplane or the number of airplanes that will have a cracked wing spar(s) and need replacement.

The cost of each repetitive inspection will be $1,860 per airplane (31 workhours × $60 per hour).

Raytheon no longer produces wings spars for the affected airplanes. If a wing spar is found cracked, you will have to install an FAA-approved wing spar configuration in order to continue to operate the airplane. For cost estimate purposes, we are using information on installing a Raytheon Beech 55 or 58 series airplane wing spar on a Raytheon Beech Model A45 airplane in accordance with Supplemental Type Certificate (STC) No. SA5521NM. Nogle and Black Aviation, Inc., owns this STC. The cost to replace a cracked wing spar through this STC will be $14,100 (160 workhours × $60 per hour plus $4,500 for parts). The airplane will still be subject to the inspection requirements in this AD.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 99-12-02, Amendment 39-11193 (64 FR 31689, June 14, 1999), and by adding a new AD to read as follows:

2001-13-18 Raytheon Aircraft Company: Amendment 39-12300; Docket No. 2000-CE-09-AD, Supersedes AD 99-12-02, Amendment 39-11193.

(a) What airplanes are affected by this AD? This AD applies to Beech Models 45 (YT-34), A45 (T-34A, B-45), and D45 (T-34B) airplanes, all serial numbers, certificated in any category.

(b) Who must comply with this AD? Anyone who wishes to operate any of the above airplanes must comply with this AD.

(c) What problem does this AD address? The actions specified by this AD are intended to detect and correct cracks in the wing spar assemblies and ensure the operational safety of the above-referenced airplanes.

(d) What actions must I accomplish to address this problem? To address this problem, you must maintain the actions of AD 99-12-02 (superseded by this AD) that are outlined in paragraphs (d)(1), (d)(2), and (d)(3) of this AD, including all subparagraphs, until you accomplish the initial inspection required in paragraph (d)(5) of this AD (paragraphs d(1)-(d)(4) are actions retained from AD 99-12-02, and paragraphs (d)(5)-(d)(7) on actions new to this AD:

Action | When | In accordance with
(1) Accomplish the following placard requirements: (i) Fabricate two placards using letters of at least ⅒-inch in height with each consisting of the following words: “Never exceed speed, Vne-175 MPH (152 knots) IAS; Normal Acceleration (G) Limits 0, and +2.5; ACROBATIC MANEUVERS PROHIBITED | All actions required prior to further flight after July 9, 1999 (the effective date of AD 99-12-02), unless already accomplished | Not Applicable.
(ii) Install these placards on the airplane instrument panels (one on the front panel and one on the rear panel) next to the airspeed indicators within the pilot's clear view |  |
(iii) Insert a copy of this AD into the Limitations Section on the Airplane Flight Manual (AFM) |  |
(2) Modify each airspeed indicator glass by accomplishing the following:
(i) Place a red radial line on each indicator glass at 175 miles per hour (mph) (152 knots) | All actions required within 10 hours time-in-service (TIS) after July 9, 1999 (the effective date of AD 99-12-02), unless already accomplished | Not Applicable.
(ii) Place a white slippage index mark between each airspeed indicator glass and case to visually verify that the glass has not rotated |  |
(3) Mark the outside surface of the “g” meters with lines of approximately 1/16-inch by 3/16-inch, as follows:
(i) A red line at 0 and 2.5; and | All actions required within 10 hours time-in-service (TIS) after July 9, 1999 (the effective date of AD 99-12-02), unless already accomplished | Not Applicable.
(ii) A white slippage mark between each “g” meter glass and case to visually verify that the glass has not rotated |  |
(4) The actions required by paragraph (d)(1), (d)(2), and (d)(3) are no longer required after the initial inspection required in paragraph (d)(5) of this AD is accomplished | Upon accomplishment of the initial inspection required in paragraph (d)(5) of this AD, unless already accomplished | Raytheon Aircraft Mandatory Service Bulletin No. SB 57-3329, Issued: February, 2000.
(5) Inspect the wing spar assemblies for cracks | Initially inspect within the next 80 hours time-in-service (TIS) after August 16, 2001 (the effective date of this AD) or within 12 months after August 16, 2001 (the effective date of this AD), whichever occurs later, unless already accomplished. Inspect thereafter at intervals not to exceed 80 hours TIS | Raytheon Aircraft Mandatory Service Bulletin No. SB 57-3329, Issued: February, 2000.
(6) Replace any cracked wing spar assembly. A crack indication in the filler strip is allowed if the direction of the crack is toward the outside edge of the filler strip. If the direction of the crack is toward the inside edge of the filler strip or any crack is found in any other area, you must replace the cracked wing spar assembly | Prior to further flight after the required inspection where the cracked wing spar assembly is found | The applicable maintenance manual.
(7) Submit a report to FAA that describes the damage found on the wing spar. Use the chart on pages 58 through 60 of Raytheon Aircraft Mandatory Service Bulletin No. SB 57-3329, Issued: February, 2000 | Within 10 days after the initial inspection or within 10 days after August 16, 2001 (the effective date of this AD), whichever occurs later, unless already accomplished | Page 58 through 60 of Raytheon Aircraft Mandatory Service Bulletin No. SB 57-3329, Issued: February, 2000.
(i) Submit this report even if no cracks are found |  |
(ii) Submit this report to FAA at the address found in paragraph (f) of this AD |  |

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(3) The one alternative method of compliance approved in accordance with AD 99-12-02, which is superseded by this AD, is approved as an alternative method of compliance with this AD.

(f) Where can I get information about any already-approved alternative methods of compliance? Contact Paul Nguyen, Aerospace Engineer, Wichita Aircraft Certification Office, FAA, 1801 Airport Road, Mid-Continent Airport, Wichita, Kansas 67209; telephone: (316) 946-4125; facsimile: (316) 946-4407.

(g) What if I need to fly the airplane to another location to comply with this AD? FAA can issue a special flight permit under sections 21.197 and 21.199 of the Federal Aviation Regulations (14 CFR 21.197 and 21.199) to operate your airplane to a location where you can accomplish the requirements of this AD.

(h) Are any service bulletins incorporated into this AD by reference? You must accomplish the actions required by this AD in accordance with Raytheon Aircraft Mandatory Service Bulletin No. SB 57-3329, Issued: February, 2000. The Director of the Federal Register approved this incorporation by reference under 5 U.S.C. 552(a) and 1 CFR part 51. You can get copies from Raytheon Aircraft Corporation, P.O. Box 85, Wichita, Kansas 67201-0085. You can look at copies at FAA, Central Region, Office of the Regional Counsel, 901 Locust, Room 506, Kansas City, Missouri, or at the Office of the Federal Register, 800 North Capitol Street, NW., suite 700, Washington, DC.

(i) Does this AD action affect any existing AD actions?This amendment supersedes AD 99-12-02, Amendment 39-11193.

(j) When does this amendment become effective? This amendment becomes effective on August 16, 2001.

Issued in Kansas City, Missouri, on June 22, 2001.
Michael Gallagher,
Manager, Small Airplane Directorate, Aircraft Certification Service.

[FR Doc. 01-16250 Filed 6-29-01; 8:45 am]

BILLING CODE 4910-13-P